Title 3—

The President

Proclamation 9442 of May 5, 2016

Military Spouse Appreciation Day, 2016

By the President of the United States of America

A Proclamation

Serving alongside our Soldiers, Sailors, Airmen, Marines, and Coast Guardsmen, our Nation's military families give of themselves and give up their time with their loved ones so we may live safely and freely. Few Americans fully understand the sacrifices made by those who serve in uniform, but for spouses of service members across our country, the costs of the freedom we too often take for granted are known intimately. On Military Spouse Appreciation Day, we honor the spouses of those who have left behind everything they know and love to join our Nation's unbroken chain of patriots, and we recommit to giving military spouses the respect, dignity, and support they deserve.

Enduring separation and relocation, heartache and anticipation, military spouses demonstrate a strength reflective of the spirit of our Nation. The spouses of our men and women in uniform bear the burden of sustaining their families, caring for children and offering comfort and support while their loved ones are away. As a country, we must keep faith with military spouses and uphold our commitment to the members of our Armed Forces to look after their families.

Five years ago, First Lady Michelle Obama and Dr. Jill Biden launched the Joining Forces initiative. Through Joining Forces, my Administration is working to ensure the spouses of our men and women in uniform have good, secure jobs so they can better provide for their families. We launched the Military Spouse Employment Partnership—uniting hundreds of businesses across America in a collaborative effort to employ more military spouses. Additionally, I proposed an increase in funding to help address the barriers that too often hold back transitioning service members and their spouses from greater economic possibility. And I have taken action to improve access to mental health care for our veterans and their families, and to ensure they are able to find adequate housing—because anyone who defended America should have a home in America. I encourage all people to visit www.JoiningForces.gov to learn how to get involved or for more information.

Military spouses exhibit tremendous courage and unyielding faith, and in their spirit of resolve, we see the best of America. Let us celebrate these selfless individuals by supporting them and upholding our everlasting commitment to stand beside them and their families.

NOW, THEREFORE, I, BARACK OBAMA, President of the United States of America, by virtue of the authority vested in me by the Constitution and the laws of the United States, do hereby proclaim May 6, 2016, as Military Spouse Appreciation Day. I call upon the people of the United States to honor military spouses with appropriate ceremonies and activities.

IN WITNESS WHEREOF, I have hereunto set my hand this fifth day of May, in the year of our Lord two thousand sixteen, and of the Independence of the United States of America the two hundred and fortieth.

[FR Doc. 2016-11077

Filed 5-9-16; 8:45 am]

Billing code 3295-F6-P